DEPARTMENT OF VETERANS AFFAIRS

38 CFR Part 1

RIN 2900-AS18

Extending Deadline for Debtor To Request a Waiver

AGENCY: Department of Veterans Affairs.

ACTION: Proposed rule.

SUMMARY: The Department of Veterans Affairs proposes to amend the time period that a debtor has to request a waiver from 180 days to one year. This action is necessary because the Cleland Dole Act, which was signed into law December of 2022, gives a debtor up to one year to request a waiver. This rulemaking would go into effect December 2024 in accordance with section 254 of the Cleland Dole Act.

DATES: Comments must be received on or before January 7, 2025.

ADDRESSES: Comments must be submitted through www.regulations.gov. Except as provided below, comments received before the close of the comment period will be available at www.regulations.gov for public viewing, inspection, or copying, including any personally identifiable or confidential business information that is included in a comment. We post the comments received before the close of the comment period on www.regulations.gov as soon as possible after they have been received. VA will not post on Regulations.gov public comments that make threats to individuals or institutions or suggest that the commenter will take actions to harm an individual. VA encourages individuals not to submit duplicative comments; however, we will post comments from multiple unique commenters even if the content is identical or nearly identical to other comments. Any public comment received after the comment period's closing date is considered late and will not be considered in the final rulemaking. In accordance with the Providing Accountability Through Transparency Act of 2023, a 100 word Plain-Language Summary of this proposed rule is available at Regulations.gov, under RIN 2900-AS18.

FOR FURTHER INFORMATION CONTACT: Jonathan Lambert, ADAS Office of Financial Policy, 047G, 810 Vermont Avenue NW, Washington, DC 20420 (202) 461-6173. (This is not a toll-free telephone number.)

SUPPLEMENTARY INFORMATION: Section 5302(a)(1) of title 38 of the U.S. Code, authorizes VA to not recover debts related to benefits payments or overpayments where recovery would be against equity and good conscience, and an application for waiver relief is made within 180 days. In 2022, Congress changed the deadline by which to file a waiver request from 180 days to one year. VA proposes to amend its regulations in 38 CFR 1.963 to reflect the expanded deadline by which to file a waiver. To implement this change, we propose to revise the text in paragraph (b)(2) of 38 CFR 1.963.

Executive Orders 12866, 13563 and 14094

Executive Order 12866 (Regulatory Planning and Review) directs agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 14094 (Executive Order on Modernizing Regulatory Review) supplements and reaffirms the principles, structures, and definitions governing contemporary regulatory review established in Executive Order 12866 of September 30, 1993 (Regulatory Planning and Review), and Executive Order 13563 of January 18, 2011 (Improving Regulation and Regulatory Review). The Office of Information and Regulatory Affairs has determined that this rulemaking is a significant regulatory action under Executive Order 12866, section 3(f)(1), as amended by Executive Order 14094. The Regulatory Impact Analysis associated with this rulemaking can be found as a supporting document at www.regulations.gov.

Regulatory Flexibility Act (RFA)

The Secretary hereby certifies that this proposed rule will not have a significant economic impact on a substantial number of small entities as they are defined in the Regulatory Flexibility Act (5 U.S.C. 601-612). The factual basis for this certification is based on the fact that the proposed rule only effects individual Veteran debtors, not small entities. In addition, the proposed rule gives debtors more time to request a waiver which will not have a negative economic impact on the debtors. Therefore, pursuant to 5 U.S.C. 605(b), the initial and final regulatory flexibility analysis requirements of 5 U.S.C. 603 and 604 do not apply.

Unfunded Mandates

The Unfunded Mandates Reform Act of 1995 requires, at 2 U.S.C. 1532, that agencies prepare an assessment of anticipated costs and benefits before issuing any rule that may result in the expenditure by State, local, and Tribal governments, in the aggregate, or by the private sector, of $100 million or more (adjusted annually for inflation) in any one year. This proposed rule will have no such effect on State, local, and Tribal governments, or on the private sector.

Paperwork Reduction Act (PRA)

This proposed rule contains no provisions constituting a collection of information under the Paperwork Reduction Act of 1995 (44 U.S.C. 3501-3521).

List of Subjects in 38 CFR Part 1

Administrative practice and procedure, Disability benefits, Penalties, Pensions, Wages.

Signing Authority

Denis McDonough, Secretary of Veterans Affairs, approved and signed this document on October 22, 2024, and authorized the undersigned to sign and submit the document to the Office of the Federal Register for publication electronically as an official document of the Department of Veterans Affairs.

Luvenia Potts,
Regulation Development Coordinator, Office of Regulation Policy & Management, Office of General Counsel, Department of Veterans Affairs.

For the reasons stated in the preamble, the Department of Veterans Affairs proposes to amend 38 CFR part 1 as set forth below:

PART 1—GENERAL PROVISIONS

1. The authority citation for part 1 continues to read as follows:

Authority: 38 U.S.C. 5101, and as noted in specific sections.

2. Amend § 1.963 by revising paragraph (b)(2) and the section authority citation to read as follows:

§ 1.963 Waiver; other than loan guaranty.

* * * * *

(b) * * *

(2) Except as otherwise provided herein, if made within one year following the date of a notice of indebtedness issued on or after April 1, 1983, by the Department of Veterans Affairs to the debtor. The one year period may be extended if the individual requesting waiver demonstrated to the Chairperson of the Committee on Waivers and Compromises that, as a result of an error by either the Department of Veterans Affairs or the postal authorities, or due to other circumstances beyond the debtor's control, there was a delay in such individual's receipt of the notification of indebtedness beyond the time customarily required for mailing (including forwarding). If the requester does substantiate that there was such a delay in the receipt of the notice of indebtedness, the Chairperson shall direct that the one year period be computed from the date of the requester's actual receipt of the notice of indebtedness.

(38 U.S.C. 5302; Pub. L. 117-328, Title II, Subtitle E, sec. 254 (Dec. 29, 2022), unless otherwise noted.)

[FR Doc. 2024-25965 Filed 11-7-24; 8:45 am]

BILLING CODE 8320-01-P